DEPARTMENT OF JUSTICE

[OMB Number 1110-0055]

Agency Information Collection Activities; Proposed eCollection; eComments Requested; The National Instant Criminal Background Check System

AGENCY: Federal Bureau of Investigation, Department of Justice.

ACTION: 30-day Notice.

SUMMARY: Department of Justice (DOJ), Federal Bureau of Investigation, Criminal Justice Information Services Division will be submitting the following information collection request to the Office of Management and Budget (OMB) for review and approval in accordance with the Paperwork Reduction Act of 1995.

DATES: Comments are encouraged and will be accepted for an additional 30 days until August 24, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: The National Instant Criminal Background Check System (NICS) Checks by Criminal Justice Agencies (CJA)

(3) Agency form number, if any, and the applicable component of the Department sponsoring the collection: 1110-0055

(4) Sponsoring component: Department of Justice, Federal Bureau of Investigation, Criminal Justice Information Services Division.

(5) Affected public who will be asked or required to respond, as well as a brief abstract: Primary: Federal, state, county, city, and tribal law enforcement agencies.

Abstract: In November 1993, the Brady Handgun Violence Prevention Act of 1993 (Brady Act), Public Law 103-159, was signed into law and required federal firearms licensees (FFL) to request background checks on individuals attempting to purchase or receive a firearm. The permanent provisions of the Brady Act, which went into effect on November 30, 1998, required the United States Attorney General to establish a NICS that FFLs may contact by telephone, or other electronic means in addition to telephone. for information to be supplied immediately on whether the receipt of a firearm by a prospective transferee would violate Section 922 (g) or (n) of Title 18, United States Code, or state law. There are additional authorized uses of the NICS found at Title 28, Code of Federal Regulation (CFR), Section 25.6(j). The FBI authorized the CJAs to initiate a NICS check to assist their transfer of firearms to private individuals as a change to 28.CFR§ 25.6(j) in the Federal Register, Volume 78, Number 18 pages 5757-5760.

(6) An estimate of the total number of respondents and the amount of time estimated for an average respondent to respond/reply: It is estimated the time burden associated with this collection is 3 minutes per transaction, depending on the individual circumstance. The total annual respondent entities taking advantage of this disposition process is 21,156 CJAs.

(7) An estimate of the total public burden (in hours) associated with the collection: It is estimated the burden associated with this collection is 3 minutes per transaction depending on the individual circumstance. If each of the 21,156 respondents conducted three dispositions with this authority per year at 3 minutes per check, then it is anticipated the business burden would be 3,173.4 hours per year.

If additional information is required contact: Melody Braswell, Department Clearance Officer, United States Department of Justice, Justice Management Division, Policy and Planning Staff, Two Constitution Square, 145 N Street NE, Suite 3E.405B, Washington, DC 20530.

Dated: July 21, 2020.
Melody Braswell,
Department Clearance Officer, PRA, U.S. Department of Justice.

[FR Doc. 2020-16126 Filed 7-23-20; 8:45 am]

BILLING CODE 4410-02-P